ENVIRONMENTAL PROTECTION AGENCY

40 CFR Part 51

[FRL-7784-5]

RIN 2060-AJ31

Regional Haze Regulations and Guidelines for Best Available Control Technology (BART) Determinations; Notice of Public Comment Period Extension

AGENCY: Environmental Protection Agency (EPA).

ACTION: Notice of public comment period extension.

SUMMARY: The EPA is announcing that the public comment period for the proposed rule “Regional Haze Regulations and Guidelines for Best Available Control Technology (BART) Determinations” (69 FR 25184, May 5, 2004) is extended from July 6, 2004 until July 15, 2004. We are required under CAA section 307(d)(5)(iv) to accept comments for at least 30 days after a public hearing. Two public hearings were held on the proposed rule; one on June 4, 2004, in Alexandria, VA, and the second on June 15, 2004, in Denver, CO. Because we held our second public hearing on June 15, 2004, the public comment period will remain open until July 15, 2004.

DATES: Comments must be submitted by July 15, 2004.

ADDRESSES: Written comments on the BART rule may also be submitted to EPA electronically, by mail, by facsimile, or through hand delivery/courier. Please refer to the BART rule for the addresses and detailed instructions.

Documents relevant to the proposed rule are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket.

The EPA web site for the proposed rule is at http://www.epa.gov/air/visibility/actions.html.

FOR FURTHER INFORMATION CONTACT: Questions concerning the proposed BART Rule should be addressed to Kathy Kaufman, U.S. EPA, Office of Air Quality Planning and Standards, Air Quality Strategies and Standards Division (C504-01), Research Triangle Park, NC, 27711, telephone number (919) 541-0102, e-mail kaufman.kathy@epa.gov, or Todd Hawes, U.S. EPA, Office of Air Quality Planning and Standards, Air Quality Strategies and Standards Division (C504-01), Research Triangle Park, NC, 27711, telephone number (919) 541-5591, e-mail at at hawes.todd@epa.gov.

SUPPLEMENTARY INFORMATION:

How Can I Get Copies of This Document and Other Related Information?

The BART rule is available at the EPA website identified above, and was published in the Federal Register on May 5, 2004 at 69 FR 25184.

The EPA has established the official public docket for the BART rule under Docket ID No. OAR-2002-0076. The EPA has also developed a web site for the proposal at the addresses given above. Please refer to the proposals for detailed information on accessing information related to the proposal.

Dated: July 1, 2004.
Jeff Clark,
Acting Director, Office of Air Quality Planning and Standards.

[FR Doc. 04-15531 Filed 7-6-04; 8:45 am]

BILLING CODE 6560-50-P